LEGAL SERVICES CORPORATION

Sunshine Act Meetings

TIME AND DATE: The Legal Services Corporation's (LSC) Board of Directors and its six committees will meet April 4-5, 2022. On Monday, April 4, the first meeting will begin at 9:30 a.m. Eastern Daylight Time (EDT), with the next meeting commencing promptly upon adjournment of the immediately preceding meeting. On Tuesday, April 5, the first meeting will again begin at 9:30 a.m., EDT, with the next meeting commencing promptly upon adjournment of the immediately preceding meeting.

PLACE: Public Notice of Virtual Meeting.

LSC will conduct the April 4-5, 2022 meetings in-person and via Zoom.

Public Observation: Unless otherwise noted herein, the Board and all committee meetings will be open to public observation via Zoom. Members of the public who wish to participate remotely in the public proceedings may do so by following the directions provided below.

Directions for Open Sessions

Monday, April 4, 2022

• To join the Zoom meeting by computer, please use this link.

• https://lsc-gov.zoom.us/j/91517015039?pwd=Zjh0ZStPVWR4Z0RvNzFsSm5ETWRXQT09

○ Meeting ID: 915 1701 5039

○ Passcode: 116372

• To join the Zoom meeting with one tap from your mobile phone, please click dial:

○ +16468769923,,91517015039# US (New York)

○ +13017158592,,91517015039# US (Washington, DC)

• To join the Zoom meeting by telephone, please dial one of the following numbers:

○ +1 301 715 8592 US (Washington DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ Meeting ID: 915 1701 5039

○ Passcode: 116372

○ If calling from outside the U.S., find your local number here: https://lsc-gov.zoom.us/u/acCVpRj1FD

Tuesday, April 5, 2022

• To join the Zoom meeting by computer, please use this link.

• https://lsc-gov.zoom.us/j/96037231141?pwd=SUNnclEyM0k1Q0swV3MvUTRZUXU3dz09

○ Meeting ID: 960 3723 1141

○ Passcode: 096210

• To join the Zoom meeting with one tap from your mobile phone, please click dial:

○ +13017158592,,96037231141# US (Washington DC)

○ +16468769923,,96037231141# US (New York)

• To join the Zoom meeting by telephone, please dial one of the following numbers:

○ +1 301 715 8592 US (Washington DC)

○ +1 646 876 9923 US (New York)

○ +1 312 626 6799 US (Chicago)

○ +1 669 900 6833 US (San Jose)

○ +1 253 215 8782 US (Tacoma)

○ +1 346 248 7799 US (Houston)

○ +1 408 638 0968 US (San Jose)

○ Meeting ID: 960 3723 1141

○ Passcode: 096210

○ If calling from outside the U.S., find your local number here: https://lsc-gov.zoom.us/u/acCVpRj1FD

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

Status: Open, except as noted below.

Audit Committee—Open, except that, upon a vote of the Board of Directors, the meeting may be closed to the public to discuss follow-up work by the Office of Compliance and Enforcement relating to open Office of Inspector General investigations and to receive a briefing on cybersecurity.

Combined Audit and Finance Committee—Open, except that, upon a vote of the Board of Directors, the meeting may be closed to the public to receive a briefing from the Corporation's outside auditor and discuss the Fiscal Year 2021 Audited Financial Statements.

Governance and Performance Review Committee—Open, except that, upon a vote of the Board of Directors, the meeting may be closed to the public to hear a report on the evaluation of LSC's officers, including Vice President for Grants Management, Vice President for Government Relations and Public Affairs, Vice President for Legal Affairs & General Counsel, Chief Financial Officer & Treasurer, and Chief of Staff & Corporate Secretary.

Institutional Advancement Committee—Open, except that, upon a vote of the Board of Directors, the meeting may be closed to the public to receive a briefing on development activities and to discuss prospective new members of the Leaders Council and Emerging Leaders Council.

Board of Directors—Open, except that, upon a vote of the Board of Directors, a portion of the meeting may be closed to the public for briefings by management and LSC's Inspector General, and to consider and act on the General Counsel's report on potential and pending litigation involving LSC, and prospective Leaders Council and Emerging Leaders Council members.

Any portion of the closed session consisting solely of briefings does not fall within the Sunshine Act's definition of the term “meeting” and, therefore, the requirements of the Sunshine Act do not apply to such portion of the closed session.¹

¹ 5 U.S.C. 552b (a) (2) and (b). See also 45 CFR 1622.2 & 1622.3.

A verbatim written transcript will be made of the closed session of the Audit, Board, Combined Audit and Finance, Governance and Performance Review, and Institutional Advancement Committee meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule
| Start time (all EDT)
Monday, April 4, 2022
1. Finance Committee Meeting | 9:30 a.m.
2. Combined Meeting of the Audit and Finance Committees
3. Audit Committee Meeting
4. Operations and Regulations Committee Meeting
5. Delivery of Legal Services Committee Meeting
Tuesday, April 5, 2022
1. Governance and Performance Review Committee Meeting | 9:30 a.m.
2. Institutional Advancement Committee (IAC) Meeting
3. Meeting of the Communications Subcommittee of the IAC
4. Open Board Meeting
5. Closed Board Meeting

Monday, April 4, 2022

Finance Committee Meeting

Open Session

1. Approval of Agenda

2. Approval of the Minutes of the Committee's Open Session Meeting on January 27, 2022

3. Approval of Minutes of the Committee's Closed Session Meeting on January 27, 2022

4. Presentation of LSC's Financial Report for the First Five Months of FY 2022 (Oct. 1, 2021—Feb. 28, 2022)

• Debbie Moore, Chief Financial Officer & Treasurer

5. Discussion of LSC's FY 2022 Appropriations

• Carol Bergman, Vice President for Government Relations & Public Affairs

6. Consider and Act on Resolution 2022-XXX, Adopting LSC's Consolidated Operating Budget for FY 2022

7. Discussion of LSC's FY 2023 Appropriations Request

• Carol Bergman, Vice President for Government Relations & Public Affairs

8. Discussion Regarding Process and Timetable for FY 2024 Budget Request

• Carol Bergman, Vice President for Government Relations & Public Affairs

9. Public Comment

10. Consider and Act on Other Business

11. Consider and Act on Motion to Adjourn the Meeting

Combined Audit and Finance Committees Meeting

Open Session

1. Approval of Agenda

2. Presentation of Fiscal Year 2021 Annual Financial Audit

• Roxanne Caruso, Assistant Inspector General for Audit

• Marie Caputo, Principal, CliftonLarsonAllen

3. Consider and Act on Motion to Suspend the Open Session Meeting and Proceed to a Closed Session

Closed Session

4. Opportunity to Ask Auditors Questions without Management Present

• Roxanne Caruso, Assistant Inspector General for Audit

• Marie Caputo, Principal, CliftonLarsonAllen

5. Communication by Corporate Auditor with those Charged with Governance Under Statement on Auditing Standard 114

• Roxanne Caruso, Assistant Inspector General for Audit

• Marie Caputo, Principal, CliftonLarsonAllen

6. Consider and Act on Motion to Adjourn the Closed Session Meeting and Resume the Open Session Meeting

Open Session

7. Consider and Act on Resolution 2022-XXX, Acceptance of Draft Audited Financial Statements for Fiscal Years 2021and 2020

8. Public Comment

9. Consider and Act on Other Business

10. Consider and Act on Motion to Adjourn the Meeting

Audit Committee Meeting

Open Session

1. Approval of Agenda

2. Approval of Minutes of the Committee's Open Session Meeting on January 27, 2022

3. Briefing by the Office of Inspector General

• Roxanne Caruso, Assistant Inspector General for Audit

4. Management Update Regarding Risk Management

• Will Gunn, Vice President for Legal Affairs and General Counsel

5. Briefing about Follow-Up by the Office of Compliance and Enforcement on Referrals by the Office of Inspector General Regarding Audit Reports and Annual Financial Statement Audits of Grantees

• Lora Rath, Director, Office of Compliance and Enforcement

• Roxanne Caruso, Assistant Inspector General for Audit

6. Public Comment

7. Consider and Act on Other Business

8. Consider and Act on Motion to Adjourn the Open Session Meeting and Proceed to a Closed Session Meeting

Closed Session

1. Approval of Minutes of the Committee's Closed Session Meeting on January 27, 2022

2. Briefing on Cybersecurity for LSC and Grantees

• Will Gunn, Vice President for Legal Affairs and General Counsel

• Jada Breegle, Chief Information Officer

• Debbie Moore, Chief Financial Officer, and Treasurer

• Lynn Jennings, Vice President for Grants Management

• Dan O'Rourke, Assistant Inspector General for Investigations

• Roxanne Caruso, Assistant Inspector General for Audit

3. Briefing by Office of Compliance and Enforcement on Active Enforcement Matter(s) and Follow-Up on Open Investigation Referrals from the Office of Inspector General

• Lora Rath, Director, Office of Compliance and Enforcement

4. Consider and Act on Motion to Adjourn the Meeting

Operations and Regulations Committee Meeting

Open Session

1. Approval of Agenda

2. Approval of Minutes of the Committee's Open Session Meeting on January 27, 2022

3. Update on Financial Guide

• Stuart Axenfeld, Deputy Director for Financial Compliance, Office of Compliance and Enforcement

4. Update on Regulatory Review Process

• Stefanie Davis, Senior Associate General Counsel for Regulations and Ethics Officer

5. Briefing on Acquisition Management

• Helen Gerostathos Guyton, Senior Associate General Counsel for Corporate Practice

• Debbie Moore, Chief Financial Officer & Treasurer

6. Briefing on Professionalism, Conflicts of Interest, and Ethics Activities

• Stefanie Davis, Senior Associate General Counsel for Regulations and Ethics Officer

7. Briefing on Performance and Talent Management

• Traci Higgins, Director of Human Resources

8. Public Comment

9. Consider and Act on Other Business

10. Consider and Act on Motion to Adjourn the Meeting

Delivery of Legal Services Committee Meeting

Open Session

1. Approval of Agenda

2. Approval of Minutes of the Committee's Open Session Meeting on January 27, 2022

3. Performance Criteria Update

• Lynn Jennings, Vice President for Grants Management

• Joyce McGee, Director, Office of Program Performance

4. Grants Management System (GrantEase) Implementation Update

• Jada Breegle, Chief Information Officer

5. Presentation on LSC Grantee Oversight, Compliance and Data

• Joyce McGee, Director, Office of Program Performance

• Lora Rath, Director, Office of Compliance and Enforcement

• Holly Stevens, Chief Data Officer, Office of Data Governance & Analysis

6. Public Comment

7. Consider and Act on Other Business

8. Consider and Act on a Motion to Adjourn the Meeting

Governance and Performance Review Committee

Open Session

1. Approval of Agenda

2. Approval of Minutes of the Committee's Open Session Meeting on January 27, 2022

3. Consider and Act on Other Business

4. Public Comment

5. Consider and Act on Motion to Adjourn the Open Session Meeting and Proceed to a Closed Session

Closed Session

1. Report on Evaluations of Vice President for Grants Management, Vice President for Government Relations & Public Affairs, Chief Financial Officer, Vice President for Legal Affairs and General Counsel, and Chief of Staff & Corporate Secretary

• Ron Flagg, President

2. Consider and Act on Motion to Adjourn the Meeting

Institutional Advancement Committee Meeting

Open Session

1. Approval of Agenda

2. Approval of Minutes of the Institutional Advancement Committee's Open Session Meeting on January 28, 2022

3. Update on Leaders Council and Emerging Leaders Council

• John G. Levi, Chairman of the Board

4. Development Report

• Nadia Elguindy, Director of Institutional Advancement

5. Consider and Act on Resolution 2022-XXX, Updating Institutional Advancement Protocols

6. Update on LSC's 50th Anniversary Fundraising Campaign

• Nadia Elguindy, Director of Institutional Advancement

• Leo Latz, President & Founder, Latz & Company

7. Update on Veterans Task Force and Opioid Task Force Implementation

• Stefanie Davis, Senior Assistant General Counsel

8. Update on the Eviction Study

• Lynn Jennings, Vice President for Grants Management

9. Update on Housing Task Force

• Helen Guyton, Senior Assistant General Counsel

10. Update on Rural Justice Task Force

• Jessica Wechter, Special Assistant to the President

11. Public Comment

12. Consider and Act on Other Business

13. Consider and Act on Motion to Adjourn the Open Session Meeting and Proceed to a Closed Session

Closed Session

1. Approval of Minutes of the Institutional Advancement Committee's Closed Session Meeting on January 28, 2022

2. Development Activities Report

• Nadia Elguindy, Director of Institutional Advancement

3. Consider and Act on Motion to Approve Leaders Council and Emerging Leaders Council Invitees

4. Consider and Act on Other Business

5. Consider and Act on Motion to Adjourn the Meeting

IAC Communications Subcommittee Meeting

Open Session

1. Approval of Agenda

2. Approval of Minutes of the Subcommittee's Open Session Meeting on January 28, 2022

3. Communications and Social Media Update

• Carl Rauscher, Director of Communications and Media Relations

4. Public Comment

5. Consider and Act on Other Business

6. Consider and Act on Motion to Adjourn the Meeting

Board of Directors Meeting

Open Session

1. Pledge of Allegiance

2. Approval of Agenda

3. Approval of Minutes of the Board's Open Session Meeting on January 28, 2022

4. Consider and Act on Resolution 2022-XXX, In Recognition and Appreciation of Distinguished Service by Edgar S. Cahn

5. Chairman's Report

6. Members' Reports

7. President's Report

8. Inspector General's Report

9. Consider and Act on the Report of the Finance Committee

10. Consider and Act on the Report of the Combined Audit and Finance Committees

11. Consider and Act on the Report of the Audit Committee

12. Consider and Act on the Report of the Operations and Regulations Committee

13. Consider and Act on the Report of the Delivery of Legal Services Committee

14. Consider and Act on the Report of the Governance and Performance Review Committee

15. Consider and Act on the Report of the Institutional Advancement Committee

16. Public Comment

17. Consider and Act on Other Business

18. Consider and Act on Whether to Authorize a Closed Session of the Board to Address Items Listed Below

Closed Session

19. Approval of Minutes of the Board's Closed Session Meeting of January 28, 2022

20. Management Briefing

21. Inspector General Briefing

22. Consider and Act on General Counsel's Report on Potential and Pending Litigation Involving LSC

23. Consider and Act on List of Prospective Leaders Council and Emerging Council Invitees

24. Consider and Act on Motion to Adjourn the Meeting

CONTACT PERSON FOR MORE INFORMATION: Kaitlin Brown, Executive and Board Project Coordinator, at (202) 295-1555. Questions may also be sent by electronic mail to brownk@lsc.gov. Non-Confidential Meeting Materials: Non-confidential meeting materials will be made available in electronic format at least 24 hours in advance of the meeting on the LSC website, at https://www.lsc.gov/about-lsc/board-meeting-materials.

Dated: March 18, 2022.
Kaitlin D. Brown,
Executive and Board Project Coordinator, Legal Services Corporation.

[FR Doc. 2022-06202 Filed 3-18-22; 4:15 pm]

BILLING CODE 7050-01-P